DEPARTMENT OF THE INTERIOR

National Park Service

[NPS-WASO-OIA-DTS-39203; PPWODIREI0-PIN00IO15.XI0000]

Submission of U.S. Nomination to the World Heritage List

AGENCY: National Park Service, Interior.

ACTION: Notice.

SUMMARY: The Department of the Interior has submitted a nomination to the World Heritage List for Okefenokee National Wildlife Refuge. This is the third notice required by the Department of the Interior's World Heritage Program regulations.

ADDRESSES: To request paper copies of documents discussed in this notice, contact April Brooks, Office of International Affairs, National Park Service, 1849 C St. NW, Room 2415, Washington, DC 20240 (202) 354-1808, or send electronic mail (Email) to: april_brooks@nps.gov.

FOR FURTHER INFORMATION CONTACT: Jonathan Putnam, Acting Chief, Office of International Affairs, at 202-354-1809. Information on the U.S. World Heritage program can be found at: https://www.nps.gov/subjects/internationalcooperation/worldheritage.htm.

SUPPLEMENTARY INFORMATION: This constitutes the official notice of the decision by the United States Department of the Interior to submit a nomination to the World Heritage List for Okefenokee National Wildlife Refuge, as enumerated in the Summary above, and serves as the Third Notice referred to in 36 CFR 73.7(j) of the World Heritage Program regulations (36 CFR part 73).

The nomination was submitted through the U.S. Department of State to the World Heritage Centre of the United Nations Educational, Scientific and Cultural Organization (UNESCO) for consideration by the World Heritage Committee, which will likely occur at the Committee's 48th annual session in mid-2026.

This property has been selected from the U.S. World Heritage Tentative List, which comprises properties that appear to qualify for World Heritage status, and which may be considered for nomination by the United States to the World Heritage List, as required by the World Heritage Committee's Operational Guidelines.

The U.S. World Heritage Tentative List appeared in a Federal Register notice on June 7, 2023 (88 FR 37270), as required by 36 CFR 73.7(c)) with a request for public comment on possible nominations from the 19 sites on the Tentative List. A summary of the comments received, the Department of the Interior's responses to them and the Department's decision to request preparation of this nomination appeared in a subsequent Federal Register notice published on September 25, 2023 (88 FR 65748-65749). These are the First and Second Notices required by 36 CFR 73.7(c) and (f).

In making the decision to submit this U.S. World Heritage nomination, pursuant to 36 CFR 73.7(h) and (i), the Department's Assistant Secretary for Fish and Wildlife and Parks evaluated the draft nomination and the recommendations of the Federal Interagency Panel for World Heritage. She determined that the property meets the prerequisites for nomination by the United States to the World Heritage List that are detailed in 36 CFR part 73. The property is nationally significant, being a National Natural Landmark designated by the Department of the Interior. The owner of the property has concurred in writing with the nomination, and the property is well protected legally and functionally as documented in the nomination. It appears to meet two of the World Heritage criteria for natural properties.

Okefenokee National Wildlife Refuge is nominated under World Heritage natural criteria (ix) and (x), as provided in 36 CFR 73.9(c)(1), as a property that appears to justify criterion (ix) as a diverse mosaic of wetlands, savannas, forests, and prairie ecosystems and ecotones with a unique reliance on the natural interplay between fire and precipitation. The property also justifies criterion (x) as it is uniquely situated to be a thriving habitat for many important and rare plant and animal species. The refuge also meets the World Heritage requirements for integrity.

The World Heritage List is an international list of cultural and natural properties nominated by the signatories to the World Heritage Convention (1972). The World Heritage Committee, composed of representatives of 21 nations elected as the governing body of the World Heritage Convention, makes the final decisions on which nominations to accept on the World Heritage List at its annual meeting each summer. There are 1,223 World Heritage sites in 168 of the 196 signatory countries. The United States has 26 sites inscribed on the World Heritage List.

U.S. participation and the role of the Department of the Interior are authorized by title IV of the National Historic Preservation Act Amendments of 1980, Public Law 96-515, 94 Stat. 2987, 3000, codified as amended at 54 U.S.C. 307101, and conducted by the Department through the National Park Service in accordance with the regulations at 36 CFR part 73 which implement the Convention pursuant to the 1980 Amendments.

Neither inclusion in the Tentative List nor inscription as a World Heritage Site imposes legal restrictions on owners or neighbors of sites, nor do they give the United Nations any management authority or ownership rights in U.S. World Heritage Sites, which continue to be subject only to U.S. federal and local laws, as applicable.

Authority: 54 U.S.C. 307101; 36 CFR part 73.

Shannon A. Estenoz,
Assistant Secretary for Fish and Wildlife and Parks.

[FR Doc. 2024-31121 Filed 12-27-24; 8:45 am]

BILLING CODE 4312-52-P